DEPARTMENT OF VETERANS AFFAIRS

[OMB Control No. 2900-0115]

Agency Information Collection Activity under OMB Review: Supporting Statement Regarding Marriage

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0115.

FOR FURTHER INFORMATION CONTACT: Maribel Aponte, Office of Enterprise and Integration, Data Governance Analytics (008), 1717 H Street NW, Washington, DC 20006, (202) 266-4688 or email maribel.aponte@va.gov. Please refer to “OMB Control No. 2900-0115” in any correspondence.

SUPPLEMENTARY INFORMATION:

Authority: 38 U.S.C. 103.

Title: Supporting Statement Regarding Marriage (VA Form 21P-4171).

OMB Control Number: 2900-0115.

Type of Review: Reinstatement without change of a previously approved collection.

Abstract: The Department of Veterans Affairs (VA), through its Veterans Benefits Administration (VBA), administers an integrated program of benefits and services, established by law, for veterans, service personnel, and their dependents and/or beneficiaries. Title 38 U.S.C. 5101(a) provides that a specific claim in the form provided by the Secretary must be filed in order for benefits to be paid to any individual under the laws administered by the Secretary. VBA utilizes VA Form 21P-4171 to collect information from third parties regarding claimed common-law marriage between Veterans and spouse/surviving spouses. VBA used this the information collected to determine whether or not the claimed common-law marriage is valid under the laws of the state/territory where the parties resided at the time of marriage or the laws of the state/territory where the parties resided when the right to benefits accrued, in accordance with 38 CFR 3.1(j) and pay monetary benefits. In an effort to safeguard Veterans and their beneficiaries from financial exploitation, the instructions on 21P-4171 were amended to include information regarding VA-accredited attorneys or agents charging fees in connection with a proceeding before the Department of Veterans Affairs with respect to a claim.

An agency may not conduct or sponsor, and a person is not required to respond to a collection of information unless it displays a currently valid OMB control number. The Federal Register Notice with a 60-day comment period soliciting comments on this collection of information was published at 86 FR 35 on February 24, 2021, page 11385.

Affected Public: Individuals or Households.

Estimated Annual Burden: 800 Hours.

Estimated Average Burden per Respondent: 20 minutes.

Frequency of Response: One time.

Estimated Number of Respondents: 2,400.

By direction of the Secretary.
Maribel Aponte,
VA PRA Clearance Officer, Office of Enterprise and Integration, Data Governance Analytics, Department of Veterans Affairs.

[FR Doc. 2021-09128 Filed 4-30-21; 8:45 am]

BILLING CODE 8320-01-P